OFFICE OF THE UNITED STATES TRADE REPRESENTATIVE

[Docket Numbers USTR-2017-0014, USTR-2018-0006, USTR-2018-0007, USTR-2018-0008, and USTR-2018-0012]

Generalized System of Preferences (GSP): Notice Regarding the 2018 GSP Annual Product Review and Initiation of Country Practice Review of Thailand

AGENCY: Office of the United States Trade Representative.

ACTION: Notice of hearing and requests to testify and public comments.

SUMMARY: The Office of the United States Trade Representative (USTR) is providing notice that petitions submitted in connection with the 2018 GSP Annual Product Review have been accepted for further review. This notice includes the schedule for submission of public comments and the dates of a public hearing conducted by the GSP Subcommittee of the Trade Policy Staff Committee (TPSC) associated with the review of these petitions and products. In addition, USTR is announcing the initiation of a country practice review of Thailand's GSP eligibility based on the statutory market access criterion.

DATES:

A. GSP Annual Product Review Dates

July 3, 2018 at midnight EDT: Deadline for submission of comments, pre-hearing briefs, and requests to appear at the July 18th public hearing on the 2018 GSP Annual Product Review.

July 18, 2018 at 10 a.m. EDT: The GSP Subcommittee will convene a public hearing on all petitioned product additions, product removals, and competitive needs limitation (CNL) waiver petitions that were accepted for the 2018 GSP Annual Product Review. The hearing will be held in Rooms 1 and 2, 1724 F Street NW, Washington, DC 20508, beginning at 10:00 a.m.

August 8, 2018 at midnight EDT: Deadline for submission of post-hearing comments or briefs in connection with the GSP Subcommittee public hearing.

September 7, 2018: The U.S. International Trade Commission (USITC) is expected to provide its report to USTR providing advice on the probable economic effects of adding products to GSP eligibility, removing products from GSP eligibility, and granting CNL waiver petitions during the 2018 GSP Annual Product Review. Comments from interested parties on the USITC report should be posted on www.regulations.gov using Docket Number USTR-2017-0014 (instructions for submissions are provided below). Comments are due ten calendar days after the publication date of the USITC's public report.

November 1, 2018: Effective date for any modifications that the President proclaims to the list of articles eligible for duty-free treatment under GSP resulting from the 2018 Annual Product Review and for determinations related to CNL waivers.

B. Thailand Country Practice Review Dates

June 12, 2018 at midnight EDT: Deadline for submission of comments, pre-hearing briefs, and requests with respect to Thailand to appear at the June 19th public hearing on the GSP country practice reviews. The Federal Register notice of April 27, 2018 (83 FR 18618) specifies the relevant deadlines and procedures for India, Indonesia, and Kazakhstan.

June 19, 2018: The GSP Subcommittee will convene a public hearing on the GSP country practice reviews of India, Indonesia, Kazakhstan, and Thailand in Rooms 1 and 2, 1724 F Street NW, Washington, DC 20508, beginning at 10:00 a.m.

July 17, 2018 at midnight EDT: Deadline for submission of post-hearing briefs.

ADDRESSES: USTR strongly prefers electronic submissions made through the Federal eRulemaking Portal: https://www.regulations.gov. Follow the instructions for submitting comments below. The docket number for the India review is USTR-2018-0006; the docket number for the Indonesia review is USTR-2018-0007; the docket number for the Kazakhstan review is USTR-2018-0008; and the docket number for the Thailand review is USTR-2018-0012. For alternatives to on-line submissions, please contact Yvonne Jamison at (202) 395-3475.

FOR FURTHER INFORMATION CONTACT: Erland Herfindahl, Deputy Assistant U.S. Trade Representative for GSP, at (202) 395-2974 or gsp@ustr.eop.gov.

SUPPLEMENTARY INFORMATION:

A. Background

The GSP program provides for the duty-free importation of designated articles when imported from designated beneficiary developing countries. The GSP program is authorized by Title V of the Trade Act of 1974 (19 U.S.C. 2461-2467), as amended, and is implemented in accordance with Executive Order 11888 of November 24, 1975, as modified by subsequent Executive Orders and Presidential Proclamations.

B. Petitions Requesting Modifications of GSP Product Eligibility

In a notice published in the Federal Register on April 4, 2018 (83 FR 14540), USTR announced the re-opening of the GSP Annual Review originally announced in 2017 and indicated that the GSP Subcommittee was prepared to receive petitions to modify the list of products that are eligible for duty-free treatment under the GSP program and petitions to waive CNLs on imports of certain products from specific beneficiary countries.

The GSP Subcommittee has reviewed the product and CNL waiver petitions submitted in response to these announcements, and has decided to accept for review several petitions seeking to: Add certain products to the list of those eligible for duty-free treatment under GSP; remove products from GSP eligibility for certain GSP beneficiary countries; waive certain CNLs; deny certain De Minimis CNL waivers; and redesignate certain products to GSP eligibility for certain GSP beneficiary countries.

A list of petitions and products accepted for review is posted on the USTR website at https://ustr.gov/issue-areas/preference-programs/generalized-system-preferences-gsp/current-reviews/gsp-20172018 under the title “Petitions Accepted in the 2018 GSP Annual Product Review.” This list also can be found at www.regulations.gov in Docket Number USTR-2017-0014. Acceptance of a petition indicates only that the TPSC found that the subject petition warranted further consideration and that a review of the requested action will take place.

The GSP Subcommittee invites public comments on any petition that has been accepted for the 2018 GSP Annual Product Review. The GSP Subcommittee also will convene a public hearing on these products and petitions. See below for information on how to submit a request to testify at this hearing.

C. Notice of Public Hearing for the GSP Product Review

The GSP Subcommittee will hold a public hearing on July 19, 2018, beginning at 10:00 a.m., for products and petitions accepted for the 2018 GSP Annual Product Review. The hearing will be held at 1724 F Street NW, Washington, DC 20508 and will be open to the public. A transcript of the hearing will be made available on www.regulations.gov approximately two weeks after the hearing.

All interested parties wishing to make an oral presentation at the hearing must submit, following the instructions below, the name, address, telephone number, and email address (if available), of the witness(es) representing their organization by midnight, July 3, 2018. Requests to present oral testimony in connection with the public hearing must be accompanied by a written brief or summary statement, in English, which also must be received by midnight, July 3, 2018. Oral testimony before the GSP Subcommittee will be limited to five-minute presentations that summarize or supplement information contained in briefs or statements submitted for the record. Post-hearing briefs or statements will be accepted if they conform with the regulations cited below and are submitted, in English, by midnight, August 8, 2018. Parties not wishing to appear at the public hearing may submit pre-hearing and post-hearing briefs or comments by the aforementioned deadlines.

D. Initiation of a Country Practice Review of Thailand

USTR will lead a review of the eligibility of Thailand for benefits under the GSP program. The GSP Subcommittee invites public comments on a petition from the National Pork Producers Council alleging that Thailand is not meeting the GSP eligibility criterion that requires a GSP beneficiary country to assure the United States that it will provide equitable and reasonable access to its market (19 U.S.C. 2462(c)(4)). Thailand's country practice review will be added to the previously announced GSP country practice reviews of India, Indonesia, and Kazakhstan. As previously announced, the public hearing for these reviews is on June 19, 2018. See below for information on how to submit a request to testify at this hearing.

E. Notice of Revised Country Practice Public Hearing

The GSP Subcommittee will hold a public hearing on June 19, 2018, beginning at 10:00 a.m., to receive information regarding the country practice reviews of India, Indonesia, Kazakhstan, and Thailand. The hearing will be held in Rooms 1 and 2, 1724 F Street NW, Washington, DC 20508, and will be open to the public and to the press. A transcript of the hearing will be available on www.regulations.gov within approximately two weeks after the date of the hearing. All interested parties wishing to make an oral presentation at the hearing with regard to the country practice review of Thailand only must submit, following the instructions below, the name, address, telephone number, and email address, if available, of the witness(es) representing their organization by midnight on June 12, 2018. The Federal Register notice of April 27, 2018 (83 FR 18618) specified the relevant deadlines and procedures for India, Indonesia, and Kazakhstan.

Requests to present oral testimony must be accompanied by a written brief or summary statement, in English. The GSP Subcommittee will limit oral testimony before the GSP Subcommittee to five-minute presentations that summarize or supplement information contained in briefs or statements submitted for the record. The GSP Subcommittee will accept post-hearing briefs or statements if they conform to the requirements set out below and are submitted in English, by midnight on July 17, 2018. Parties not wishing to appear at the public hearing may submit pre-hearing and post-hearing briefs or comments by these deadlines. In order to be assured of consideration, you must submit all post-hearing briefs or statements by the July 17, 2018 deadline to the appropriate docket via www.regulations.gov: India (market access): USTR-2018-0006; Indonesia (market access; investment and services): USTR-2018-0007; Kazakhstan (worker rights): USTR-2018-0008; Thailand (market access): USTR-2018-0012. However, if there are new developments or information that parties wish to share with the GSP Subcommittee after this date, the www.regulations.gov docket will remain open until a final decision is made. Post all comments, letters, or other submissions related to the appropriate docket listed above via www.regulations.gov.

F. Requirements for Submissions

Submissions in response to this notice (including requests to testify, written comments, and pre-hearing and post-hearing briefs) must be submitted by the applicable deadlines set forth in this notice. All submissions must be in English and submitted electronically via http://www.regulations.gov, using the appropriate docket number. Hand-delivered submissions will not be accepted. To make a submission using http://www.regulations.gov, enter the appropriate docket number in the `Search for' field on the home page and click `Search.' The site will provide a search-results page listing all documents associated with this docket. Find a reference to this notice by selecting `Notice' under `Document Type' in the `Filter Results by' section on the left side of the screen and click on the link entitled `Comment Now.' The http://www.regulations.gov website offers the option of providing comments by filling in a `Type Comment' field or by attaching a document using the `Upload file(s)' field. The GSP Subcommittee prefers that submissions be provided in an attached document and, in such cases, that parties note `See attached' in the `Type Comment' field on the online submission form. At the beginning of the submission, or on the first page (if an attachment) should be the following text (in bold and underlined): (1) “2018 Annual Product Review” or the name of the particular Country Practice Review (2) the subject matter or the product description and related HTS tariff number; and (3) whether the document is a “Written Comment,” “Notice of Intent to Testify,” “Pre-hearing brief,” or a “Post-hearing brief.” Submissions should not exceed thirty single-spaced, standard letter-size pages in twelve-point type, including attachments. Any data attachments to the submission should be included in the same file as the submission itself, and not as separate files.

Each submitter will receive a tracking number upon completion of the submissions procedure at http://www.regulations.gov. The tracking number will be the submitter's confirmation that the submission was received into http://www.regulations.gov. The confirmation should be kept for the submitter's records. USTR is not able to provide technical assistance for the website. Documents not submitted in accordance with these instructions may not be considered in this review. If unable to provide submissions as requested, please contact Yvonne Jamison at (202) 395-3475.

G. Business Confidential Submissions

An interested party requesting that information contained in a submission be treated as business confidential information must certify that the information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the `Type Comment' field. For any submission containing business confidential information, a non-confidential version must be submitted separately (i.e., not as part of the same submission with the confidential version), indicating where confidential information has been redacted. The non-confidential version will be placed in the docket and open to public inspection.

H. Public Viewing of Submissions

Submissions in response to this notice, except for information granted business confidential status, will be available for public viewing at http://www.regulations.gov upon completion of processing, usually within two weeks of the relevant due date or date of the submission. Public versions of all documents relating to these reviews will be made available for public viewing in the appropriate docket number at http://www.regulations.gov upon completion of processing.

Erland Herfindahl,
Deputy Assistant U.S. Trade Representative for the Generalized System of Preferences, Office of the U.S. Trade Representative.

[FR Doc. 2018-11574 Filed 5-29-18; 8:45 am]

BILLING CODE 3290-F8-P